DEPARTMENT OF TRANSPORTATION

Federal Aviation Administration

14 CFR Part 71

[Docket No. FAA-2006-26164; Airspace Docket No. 06-AAL-34]

Revocation of Class E Airspace; Adak, Atka, Cold Bay, King Cove, Nelson Lagoon, Saint George Island, Sand Point, Shemya, St. Paul Island, and Unalaska, AK

AGENCY: Federal Aviation Administration (FAA), DOT.

ACTION: Final rule.

SUMMARY: This action revokes the Class E2 and E5 controlled airspace descriptions for Adak, Atka, Cold Bay, King Cove, Nelson Lagoon, Saint George Island, Sand Point, Shemya, St. Paul Island, and Unalaska, AK. These airports lie within the boundaries of the Offshore Airspace Area Control 1234L. Since these airports lay within Control 1234L, the controlled airspace associated with these airports should be listed in the Control 1234L area description. A concurrent airspace action (docket #06-AAL-29) will incorporate this controlled airspace. There is one exception. The Class E2 surface area at Shemya, AK is no longer necessary and the docket #06-AAL-29 will not be carrying it forward. There will be no change to controlled airspace along the Aleutian Chain, except for the revocation of the Shemya Class E surface area. The controlled airspace descriptions will be listed in paragraph 6007 of FAA Order 7400.9P, Airspace Designations and Reporting Points, Control 1234L. This rule results in the revocation of Class E airspace descriptions for these airfields located in FAA Order 7400.0P.

EFFECTIVE DATE: 0901 UTC, May 10, 2007. The Director of the Federal Register approves this incorporation by reference action under title 1, Code of Federal Regulations, part 51, subject to the annual revision of FAA Order 7400.9 and publication of conforming amendments.

FOR FURTHER INFORMATION CONTACT: Gary Rolf, AAL-538G, Federal Aviation Administration, 222 West 7th Avenue, Box 14, Anchorage, AK 99513-7587; telephone number (907) 271-5898; fax: (907) 271-2850; e-mail: gary.ctr.rolf@faa.gov. Internet address: http://www.alaska.faa.gov/at.

SUPPLEMENTARY INFORMATION:

History

On Tuesday, November 28, 2006, the FAA proposed to amend part 71 of the Federal Aviation Regulations (14 CFR part 71) to revoke Class E airspace located west of Longitude 160° W, along the Aleutian Chain, AK (71 FR 68772). The action was proposed in order to correctly locate these controlled airspace descriptions listed in FAA Order 7400.9P and to remove unnecessary controlled airspace no longer needed. Any airspace along the Aleutian Island Chain to the west of 160° West Longitude must be defined in the Offshore Airspace Area named Control 1234L, even if the airspace is within 12 miles of the shoreline. The airspace around King Cove, AK was inadvertently left out of the Notice of Proposed Rulemaking (NPRM). There is no reason to continue the public comment period because the NPRM clearly described the intent to relocate any controlled airspace west of 160° West Longitude. The controlled airspace description associated with King Cove, AK will be revoked and located the Control 1234L Offshore Airspace description. The Offshore Airspace action associated with this rule is taking place concurrently in a separate airspace rule (06-AAL-29).

Interested parties were invited to participate in this rulemaking proceeding by submitting written comments on the proposal to the FAA. No public comments have been received; thus the rule is adopted as proposed.

The area will be depicted on aeronautical charts for pilot reference. The coordinates for this airspace docket are based on North American Datum 83. The Class E airspace areas designated as surface areas are published in paragraph 6002 and 6004 of FAA Order 7400.9P, Airspace Designations and Reporting Points, dated September 1, 2006, and effective September 15, 2006, which is incorporated by reference in 14 CFR 71.1. The Class E airspace areas designated as 700/1,200 ft. transition areas are published in paragraph 6005 of FAA Order 7400.9P, Airspace Designations and Reporting Points, dated September 1, 2006, and effective September 15, 2006, which is incorporated by reference in 14 CFR 71.1. The Class E airspace designation listed in this document will be published subsequently in the Order.

The Rule

This amendment to 14 CFR part 71 revokes Class E2 and E5 airspace along the Aleutian Chain, Alaska to the west of 160° West Longitude. This Class E controlled airspace is revoked to allow it to be correctly listed in the Offshore Airspace description located in FAA Order 7400.9P. The intended effect of this rule is to allow the controlled airspace descriptions to be correctly located in FAA Order 7400.9P.

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule will not have a significant economic impact on a substantial number of small entities under the criteria of the Regulatory Flexibility Act.

The FAA's authority to issue rules regarding aviation safety is found in Title 49 of the United States Code. Subtitle 1, Section 106 describes the authority of the FAA Administrator. Subtitle VII, Aviation Programs, describes in more detail the scope of the agency's authority.

This rulemaking is promulgated under the authority described in Subtitle VII, Part A, Subpart 1, Section 40103, Sovereignty and use of airspace. Under that section, the FAA is charged with prescribing regulations to ensure the safe and efficient use of the navigable airspace. This regulation is within the scope of that authority because it allows this controlled airspace to be located in the appropriate section of FAA 7400.9P and represents the FAA's continuing effort to safely and efficiently use the navigable airspace.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of Federal Aviation Administration Order 7400.9P, Airspace Designations and Reporting Points, dated September 1, 2006, and effective September 15, 2006, is amended as follows:

* * * * *

Paragraph 6002 Class E Airspace Designated as Surface Areas.

* * * * *

AAL AK E2 Shemya, AK [Revoked]

* * * * *

AAL AK E2 Cold Bay, AK [Revoked]

* * * * *

Paragraph 6005 Class E Airspace Areas Extending Upward from 700 Feet or More Above the Surface of the Earth.

* * * * *

AAL AK E5 Adak, AK [Revoked]

* * * * *

AAL AK E5 Atka, AK [Revoked]

* * * * *

AAL AK E5 Cold Bay, AK [Revoked]

* * * * *

AAL AK E5 King Cove, AK [Revoked]

* * * * *

AAL AK E5 Nelson Lagoon, AK [Revoked]

* * * * *

AAL AK E5 Saint George Island, AK [Revoked]

* * * * *

AAL AK E5 Sand Point, AK [Revoked]

* * * * *

AAL AK E5 Shemya, AK [Revoked]

* * * * *

AAL AK E5 St. Paul Island, AK [Revoked]

* * * * *

AAL AK E5 Unalaska, AK [Revoked]

* * * * *

Issued in Anchorage, AK, on January 30, 2007.
Anthony M. Wylie,
Manager, Alaska Flight Services Information Area Group.

[FR Doc. E7-1884 Filed 2-6-07; 8:45 am]

BILLING CODE 4910-13-P